DEPARTMENT OF ENERGY

Federal Energy Regulatory Commission

[Project No. 13389-000]

Northeast Hydrodevelopment, LLC; Notice of Preliminary Permit Application Accepted for Filing and Soliciting Comments, Motions To Intervene, and Competing Applications

May 4, 2009.

On March 6, 2009, Northeast Hydrodevelopment, LLC filed an application, pursuant to section 4(f) of the Federal Power Act, proposing to study the feasibility of the McLane Dam Hydroelectric Project, to be located on the Sauhegan River, in Hillsborough County, New Hampshire. On April 7, 2009, the applicant filed a revised Exhibits 1 and 4-1, and a new Exhibit 4-3b for the McLane Dam Project.

The proposed McLane Dam Project would be located along the Sauhegan River channel below the existing outlet works at an existing dam owned by the Town of Milford, New Hampshire. The existing dam is 191 feet long and 19 feet high and impounds the Sauhegan River.

The proposed project would consist of: (1) Either a new approximately 80-foot-long power canal or penstock or a 1,100 foot-long penstock located below the existing outlet facilities; (2) a new powerhouse containing two or three submersible or tubular-type turbine-generators with a total hydraulic capacity of 425 cubic feet per second and a either a total installed generating capacity of 0.325 megawatts (MW) or .450 MW; (3) a newly excavated 150-foot-long tailrace; (4) an approximately 500-foot-long transmission line; (5) three feet of new flashboards; and (6) appurtenant facilities. The McLane Dam Project would have an estimated average annual generation of 1,400 megawatts-hours (MWh) to 1,900 MWh, which would be sold to Public Service of New Hampshire.

Applicant Contact: Mr. Norm Herbert, Manager, Northeast Hydrodevelopment, LLC, 100 State Route 101A, Building C, Suite 270, Amherst, New Hampshire 03031, (603) 672-8210.

FERC Contact: John Ramer, (202) 502-8969.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13389) in the docket number field to access the document. For assistance, call toll-free 1-866-208-3372.

Kimberly D. Bose,
Secretary.

[FR Doc. E9-10846 Filed 5-8-09; 8:45 am]

BILLING CODE 6717-01-P